DEPARTMENT OF COMMERCE

International Trade Administration

[C-489-825]

Heavy Walled Rectangular Welded Carbon Steel Pipes and Tubes From the Republic of Turkey: Final Results of the Expedited First Sunset Review of the Countervailing Duty Order

AGENCY: Enforcement and Compliance, International Trade Administration, Department of Commerce.

SUMMARY: As a result of this sunset review, the Department of Commerce (Commerce) finds that revocation of the countervailing duty (CVD) order on heavy walled rectangular welded carbon steel pipes and tubes (HWR pipes and tubes) from the Republic of Turkey (Turkey) would be likely to lead to the continuation or recurrence of countervailable subsidies at the levels indicated in the “Final Results of Sunset Review” section of this notice.

DATES: Applicable December 6, 2021.

FOR FURTHER INFORMATION CONTACT: Jaron Moore or Janae Martin, AD/CVD Operations, Office VIII, Enforcement and Compliance, International Trade Administration, U.S. Department of Commerce, 1401 Constitution Avenue NW, Washington, DC 20230; telephone: (202) 482-3640 and (202) 482-0238, respectively.

SUPPLEMENTARY INFORMATION:

Background

On July 21, 2016, Commerce published in the Federal Register the CVD order on HWR pipes and tubes from Turkey.¹ On August 2, 2021, Commerce initiated the first sunset review of the Order, pursuant to section 751(c) of the Tariff Act of 1930, as amended (the Act).² Commerce received notices of intent to participate from Atlas Tube, a division of Zekelman Industries, Bull Moose Tube Company, Maruichi American Corporation, Nucor Tubular Products Inc.,³ Searing Industries, and Vest, Inc. (collectively, the domestic interested parties),⁴ within the deadline specified in 19 CFR 351.218(d)(1)(i). The domestic interested parties claimed interested party status under section 771(9)(C) of the Act as manufacturer of the domestic like product.

¹ See Heavy Walled Rectangular Welded Carbon Steel Pipes and Tubes from the Republic of Turkey: Final Affirmative Countervailing Duty Determination, 81 FR 47349 (July 21, 2016); see also Heavy Walled Rectangular Welded Carbon Steel Pipes and Tubes from the Republic of Turkey: Amended Final Affirmative Countervailing Duty Determination and Countervailing Duty Order, 81 FR 62874 (September 13, 2016) (Order).

² See Initiation of Five-Year (Sunset) Reviews, 86 FR 41439 (August 2, 2021).

³ See Nucor Tubular's Letter, “Notice of Intent to Participate,” dated August 17, 2021.

⁴ See Atlas Tube, Bull Moose Tube Company, Maruichi American Corporation, Searing Industries, and Vest, Inc.'s Letter, “Notice of Intent to Participate in the First Five-Year Review of the Countervailing Duty Order on Heavy Walled Rectangular Welded Carbon Steel Pipes and Tubes from the Republic of Turkey,” dated August 17, 2021.

Commerce received a substantive response from the domestic interested parties within the 30-day deadline specified in 19 CFR 351.218(d)(3)(i).⁵ We received no substantive responses from the Government of Turkey or any other interested parties in this proceeding, nor was a hearing requested.

⁵ See Domestic Interested Parties' Letter, “Domestic Interested Parties' Substantive Response to Notice of Initiation,” dated September 1, 2021 (Domestic Interested Parties' Substantive Response).

On September 20, 2021, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of the Order.

⁶ See Commerce's Letter, “Sunset Reviews Initiated on August 2, 2021,” dated September 20, 2021.

Scope of the Order

The scope of this Order covers HWR pipes and tubes. Imports of merchandise included within the scope of this Order are currently classifiable under statistical category 7306.61.1000 of the Harmonized Tariff Schedule of the United States (HTSUS). Imports may also enter under statistical category HTSUS 7306.61.3000. For a complete description of the scope of the Order, see the accompanying Issues and Decision Memorandum.⁷

⁷ See Memorandum, “Issues and Decision Memorandum for the Final Results of the Expedited Sunset Review of the Countervailing Duty Order on Heavy Walled Rectangular Welded Carbon Steel Pipes and Tubes from the Republic of Turkey,” dated concurrently with, and hereby adopted by this notice (Issues and Decision Memorandum).

Analysis of Comments Received

All issues raised in this sunset review are addressed in the Issues and Decision Memorandum. A list of topics discussed in the Issues and Decision Memorandum is included as an appendix to this notice. The Issues and Decision Memorandum is a public document and is on file electronically via the Enforcement and Compliance's Antidumping and Countervailing Duty Centralized Electronic Service System (ACCESS). ACCESS is available to registered users at http://access.trade.gov. In addition, a complete version of the Issues and Decision Memorandum can be accessed at http://access.trade.gov/public/FRNoticesListLayout.aspx.

Final Results of Sunset Review

Pursuant to sections 751(c)(1) and 752(b) of the Act, Commerce determines that revocation of the Order would be likely to lead to the continuation or recurrence of countervailable subsidies at the following net countervailable subsidy rates listed below:

Producer/exporter | Net countervailable subsidy (percent)
MMZ Onur Boru Profil Uretim San Ve Tic A.S | 9.87
Ozdemir Boru Profil San ve Tic. Ltd Sti | 14.70
All Others | 12.36

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these results in accordance with sections 751(c), 752(b), and 777(i)(1) of the Act, and 19 CFR 351.218.

Dated: November 29, 2021.
Ryan Majerus,
Deputy Assistant Secretary for Policy and Negotiations, Performing The Non-Exclusive Functions And Duties Of The Assistant Secretary for Enforcement and Compliance.

Appendix

List of Issues Addressed in the Issues and Decision Memorandum

I. Summary

II. Background

III. Scope of the Order

IV. History of the Order

V. Legal Framework

VI. Discussion of the Issues

1. Likelihood of Continuation or Recurrence of a Countervailable Subsidy

2. Net Countervailable Subsidy Rates that Are Likely to Prevail

3. Nature of the Subsidies

VII. Final Results of Review

VIII. Recommendation

[FR Doc. 2021-26403 Filed 12-3-21; 8:45 am]

BILLING CODE 3510-DS-P